DEPARTMENT OF COMMERCE

International Trade Administration

A-602-806

Postponement of Final Determination of Antidumping Duty Investigation: Electrolytic Manganese Dioxide from Australia

AGENCY: Import Administration, International Trade Administration, Department of Commerce.

EFFECTIVE DATE: April 18, 2008.

FOR FURTHER INFORMATION CONTACT: Hermes Pinilla or Minoo Hatten AD/CVD Operations, Office 5, Import Administration, International Trade Administration, U.S. Department of Commerce, 14th Street and Constitution Avenue, NW, Washington, DC 20230; Telephone: (202) 482-3477 or (202) 482-1690, respectively.

SUPPLEMENTARY INFORMATION:

Postponement of Final Determination

On March 26, 2008, the Department of Commerce (the Department) published the preliminary determination of the antidumping duty investigation of electrolytic manganese dioxide from Australia. See Notice of Preliminary Determination of Sales at Less Than Fair Value and Affirmative Preliminary Determination of Critical Circumstances: Electrolytic Manganese Dioxide from Australia, 73 FR 15982 (March 26, 2008). The preliminary determination notice stated that the Department would issue its final determination within 75 days after the date of the preliminary determination, in accordance with section 735(a)(1) of the Tariff Act of 1930, as amended (the Act).

On March 25, 2008, the respondent, Delta EMD Australia Pty Ltd. (Delta), made a timely request pursuant to section 735(a)(2)(A) of the Act for a postponement of the final determination. On March 27, 2008, the petitioner, Tronox, LLC, stated that it supports the proposed extension of the deadline for the final determination.

Section 735(a)(2)(A) of the Act provides that a final determination may be postponed until not later than 135 days after the date of the publication of an affirmative preliminary determination if a request for such postponement is made by exporters who account for a significant proportion of exports of the subject merchandise. Delta accounts for a significant portion of exports of the subject merchandise. See Memorandum to Laurie Parkhill, “Antidumping Duty Investigation on Electrolytic Manganese Dioxide from Australia - Respondent Identification” (October 25, 2007). Section 351.210 (e)(2) of the Department’s regulations requires that exporters requesting postponement of the final determination must also request an extension of the provisional measures referred to in section 733(d) of the Act from a four-month period until not more than six months. In its March 25, 2008, submission, Delta requested the extension of provisional measures from a four-month period to not longer than six months. Therefore, we have extended the deadline for issuance of the final determination to August 8, 2008, which is 135 days after the date of publication of the preliminary determination in the Federal Register. In addition, we have also extended provisional measures to not longer than six months.

This notice is issued and published pursuant to section 735(a)(2)(A) of the Act and 19 CFR 351.210(b)(2)(ii).

Dated: April 14, 2008.
David M. Spooner,
Assistant Secretary for Import Administration.

[FR Doc. E8-8421 Filed 4-17-08; 8:45 am]

BILLING CODE 3510-DS-S